ENVIRONMENTAL PROTECTION AGENCY

[EPA-HQ-OPPT-2013-0579; FRL-9906-98]

Draft Guidelines; Product Environmental Performance Standards and Ecolabels for Voluntary Use in Federal Procurement; Reopening of Comment Period

AGENCY: Environmental Protection Agency (EPA).

ACTION: Notice; reopening of comment period.

SUMMARY: EPA issued a notice in the Federal Register issue of November 27, 2013, concerning public review and comment on draft guidelines with a potential approach for using non-governmental product environmental performance standards and ecolabels in Federal purchasing. This document reopens the comment period for two months, until April 25, 2014. The Agency received several requests to extend the comment period to allow more time for stakeholder review, collaboration, and response.

DATES: Comments, identified by docket identification (ID) number EPA-HQ-OPPT-2013-0579, must be received on or before April 25, 2014.

ADDRESSES: Follow the detailed instructions as provided under ADDRESSES in the Federal Register document of November 27, 2013.

FOR FURTHER INFORMATION CONTACT: Alison Kinn Bennett, Pollution Prevention Division (7409M), Office of Pollution Prevention and Toxics, Environmental Protection Agency, 1200 Pennsylvania Ave. NW., Washington, DC 20460-0001; telephone number: (202) 564-8859; email address: kinn.alison@epa.gov.

SUPPLEMENTARY INFORMATION: This document reopens the public comment period established in the Federal Register issue of November 27, 2013 (78 FR 70938) (FRL-9394-7). In that document, EPA announced for public review and comment draft guidelines intended to provide a transparent, fair, and consistent approach to using nongovernmental product environmental performance standards and ecolabels in Federal purchasing, consistent with Federal standards policy and sustainable acquisition mandates. These draft guidelines have been developed in response to requests via a wide variety of stakeholder engagement channels from suppliers, manufacturers, environmental organizations, Federal purchasers, and other stakeholders over the last several years. EPA is hereby reopening the comment period to April 25, 2014.

To submit comments, or access the docket, please follow the detailed instructions as provided under ADDRESSES in the November 27, 2013 Federal Register document. If you have questions, consult the person listed under FOR FURTHER INFORMATION CONTACT.

List of Subjects

Environmental protection, Ecolabels, Government procurement, Guidelines, Standards.

Dated: February 20, 2014.
Wendy C. Hamnett,
Director, Office of Pollution Prevention and Toxics.

[FR Doc. 2014-04329 Filed 2-26-14; 8:45 am]

BILLING CODE 6560-50-P